DEPARTMENT OF TRANSPORTATION

Federal Aviation Administration

Notice of Intent To Rule on a Land Release Request for Disposal of Airport Property at Newport News—Williamsburg International Airport, Newport News, VA

AGENCY: Federal Aviation Administration (FAA), DOT.

ACTION: Notice of request for a disposal of on-airport property.

SUMMARY: The FAA proposes to rule and invites public comment on Peninsula Airport Commission's (PAC) request to dispose of 0.083 acres of federally obligated airport property at Newport News—Williamsburg International Airport, Newport News, VA. This acreage was originally conveyed to PAC under the Surplus Property Act and Federal Airport Act. The proposed use of land after the release will be compatible with the airport and will not interfere with the airport or its operation.

DATES: Comments must be received on or before March 2, 2023.

FOR FURTHER INFORMATION CONTACT: Comments on this application may be mailed or delivered to the following address:

Michael Giardino, Executive Director, Newport News—Williamsburg International Airport, 900 Bland Boulevard, Suite G, Newport News, VA 23602-4319, (757) 877-0221

and at the FAA Washington Airports District Office:

Matthew J. Thys, Manager, Washington Airports District Office, 13873 Park Center Road, Suite 490S, Herndon, VA 20171, (703) 487-3980

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by grant agreements. The following is a brief overview of the request.

Peninsula Airport Commission has submitted a land release request seeking FAA approval for the disposal of approximately 0.083 acres of federally obligated airport property. The property is situated around the intersection of Jefferson Avenue and Brick Kiln Boulevard. The subject area is unable to be utilized for aviation purposes because the airport operations area is located to north of this intersection. The subject area is inaccessible to aircraft.

The 0.083 acres of land to be released was originally conveyed as part of a 920-acre, more or less, parcel through provisions of the Federal Airport Act of 1946 and the Surplus Property Act of 1944. The portions of the parcel being conveyed are contiguous with the existing road right of ways. Subsequent to the implementation of the proposed disposal, monies received by the airport from the sale of this property are considered airport revenue, and will be used in accordance with 49 U.S.C. 47107(b) and the FAA's Policy and Procedures Concerning the Use of Airport Revenue published in the Federal Register on February 16, 1999. The proposed use of the property will not interfere with the airport or its operation.

Issued in Herndon, Virginia, January 25, 2023.
Matthew J. Thys,
Manager, Washington Airports District Office.

[FR Doc. 2023-01874 Filed 1-30-23; 8:45 am]

BILLING CODE 4910-13-P